DEPARTMENT OF HOMELAND SECURITY

Federal Emergency Management Agency

44 CFR Part 67

[Docket No. FEMA-B-7464]

Proposed Flood Elevation Determinations

AGENCY: Federal Emergency Management Agency (FEMA), Department of Homeland Security, Mitigation Division.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., CFM, Acting Section Chief, Engineering Management Section, Mitigation Division, 500 C Street SW., Washington, DC 20472, (202) 646-3151.

SUPPLEMENTARY INFORMATION: FEMA proposes to make determinations of BFEs and modified BFEs for each community listed below, in accordance with Section 110 of the Flood Disaster Protection Act of 1973, 42 U.S.C. 4104, and 44 CFR 67.4(a). These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, state or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director certifies that this proposed rule is exempt from the requirements of the Regulatory Flexibility Act because proposed or modified BFEs are required by the Flood Disaster Protection Act of 1973, 42 U.S.C. 4104, and are required to establish and maintain community eligibility in the NFIP. As a result, a regulatory flexibility analysis has not been prepared.

Regulatory Classification. This proposed rule is not a significant regulatory action under the criteria of Section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, flood insurance, reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | +Elevation in feet (NAVD): Existing | +Elevation in feet (NAVD): Modified
Town of Brockton, Montana
Montana | Town of Brockton | Missouri River | Approximately 12.7 miles downstream of County Road Bridge | None | +1,930
|  |  | Approximately 13.0 miles downstream of County Road Bridge | None | +1,931
Maps available for inspection at: City Office, 716 B Avenue, Brockton, Montana.
Send Comments to: The Honorable Ben Johnson, Mayor, Town of Brockton, 716 B Avenue, Brockton, Montana 59213.
Town of Culbertson, Montana
Montana | Town of Culbertson | Missouri River | Approximately 7.76 miles downstream of confluence of Big Muddy Creek | None | +1,910
|  |  | Approximately 7.0 miles downstream of confluence of Big Muddy Creek | None | +1,910
Maps available for inspection at: Town Hall, 210 Broadway, Culbertson, Montana.
Send Comments to: The Honorable Gordon Oelkers, Mayor, Town of Culbertson, P.O. Box 351, Culbertson, Montana 59218.
McCone County and Unincorporated Areas, Montana
Montana | McCone County (Unincorporated Areas) | Missouri River | Approximately 20 miles downstream of State Route 13 | None | +1,956
|  |  | Approximately 26.9 miles upstream of confluence of Little Porcupine Creek | None | +2,038
Maps available for inspection at: County Courthouse, 1004 C Avenue, Circle, Montana.
Send Comments to: Mrs. Connie Eissinger, Chairman, McCone County Commissioners, County Courthouse, 1004 C Avenue, Circle, Montana 59215.
Town of Medicine Lake, Montana
Montana | Town of Medicine Lake | Big Muddy Creek | Approximately 1,000 feet south of West Lake Road | None | +1,944
|  |  | Approximately 2,500 feet north of West Lake Road | None | +1,948
Maps are available for inspection at 103 E. Hamilton St., Sheridan, Montana 59749.
Send comments to The Honorable Tim Hutslar, Mayor, Town of Medicine Lake, Box 147, Medicine Lake, Montana 59247.
City of Nashua, Montana
Montana | City of Nashua | Porcupine Creek | Approximately 0.41 miles downstream of U.S. Highway 2 | None | +2,058
|  |  | Approximately 0.78 miles upstream of U.S. Highway 2 | None | +2,068
Maps available for inspection at: Civic Center, 805 Front Street, Nashua, Montana.
Send Comments to: The Honorable Alan Bunk, Mayor, City of Nashua, P.O. Box 47, Nashua, Montana 59428.
City of Poplar, Montana
Montana | City of Poplar | Poplar River | Approximately 0.23 miles upstream of U.S. Highway 2 | None | +1,966
|  |  | Approximately 0.27 miles upstream of U.S. Highway 2 | None | +1,966
Maps available for inspection at: City Hall, 406 2nd Avenue West, Poplar, Montana.
Send Comments to: The Honorable Theresa Murray, Mayor, City of Poplar, 406 2nd Avenue West Poplar, Montana 59255.
City of Wolf Point, Montana
Montana | City of Wolf Point | Missouri River | Static flooding along 6th Avenue S. from Helena Street south to Idaho Street | None | +1,985
Maps available for inspection at: City Office, 201 4th Avenue South, Wolf Point, Montana.
Send Comments to: The Honorable Matt Golik, Mayor, City of Wolf Point, 201 4th Avenue South Wolf Point, Montana 59201.
Town of Atkinson, North Carolina
North Carolina | Atkinson (Town), Pender County | Mill Branch (of Moores Creek) | Approximately 0.7 mile downstream of NC Highway 53 | None | +43
|  |  | At Church Street (NC Highway 53) | None | +64
Maps available for inspection at the Atkinson Town Hall, 200 North Town Hall Avenue, Atkinson, North Carolina.
Send comments to: The Honorable George Stalker, Mayor of the Town of Atkinson, 200 North Town Hall Avenue, Atkinson, North Carolina 28421.
Burnet County, Texas
Texas | Burnet County (Unincorporated Areas) | Colorado River (Lake Travis) | Approximately 2000 feet upstream from Shaw Drive (Burnet/Travis County Line) | *716 | *722
|  |  | Eastern face of Max Starcke Dam | *716 | *724
Maps are available for inspection at 220 South Pierce Street, Room 17, Burnet, TX 78611
Send comments to: The Honorable David Kithil, Judge, Burnet County, 220 South Pierce Street, Burnet, TX 78611.
+ North American Vertical Datum.
* National Geodetic Vertical Datum.

Flooding source(s) | Location of referenced elevation | +Elevation in feet (NAVD) *Elevation in feet (NGVD): Effective | +Elevation in feet (NAVD) *Elevation in feet (NGVD): Modified | Communities affected
Eagle County, Colorado and Incorporated Areas
Colorado River | At Garfield County and Eagle County corporate limit | None | +6131 | Eagle County (Unincorporated Areas).
| Approximately 200 feet downstream of Interstate 70 | None | +6145
Missouri River | Approximately 8.14 miles downstream of confluence with Big Muddy Creek | None | +1,910 | Richland County (Unincorporated Areas).
| Approximately 11 miles upstream of confluence with Wolf Creek | None | +1,995
ADDRESSES
Richland County, Montana
Maps available for inspection at: The County Courthouse, 201 West Main, Sidney, Montana.
Send Comments to: Mr. Don Steppler, Chairman, Richland County Commissioners, 201 West Main Street, Sidney, Montana 59270.
City of Sidney
Maps are available for inspection at: City Hall, 115 2nd Street SE, Sidney Montana.
Send comments to: The Honorable Bret Smelser, Mayor, Town of Sidney, 115 2nd Street SE, Sidney, Montana 59270.
Fremont County, Colorado and Incorporated Areas
Arkansas River | Approximately 0.19 miles downstream of State Rt. 115 | *5,092 | +5,096 | City of Florence, Fremont County (Unincorporated Area), City of Canon City.
| Approximately 0.53 miles upstream of confluence of Sand Creek | *5,361 | +5,364
Chandler Creek | Confluence with Arkansas River | *5,171 | +5,174 | Fremont County (Unincorporated Area), Town of Williamsburg.
| Approximately 0.30 miles upstream of County Rd. 11A | *5,384 | +5,387
Coal Creek | Approximately 0.22 miles upstream of Confluence with Arkansas River | None | +5,153 | City of Florence, Fremont County (Unincorporated Area).
| Approximately 1.19 miles upstream of Railroad Street | None | +5,231
Coal Creek East Overflow | Approximately 0.44 miles above confluence with Arkansas River | None | +5,134 | City of Florence, Fremont County (Unincorporated Area).
| Approximately 600 feet upstream of Robinson Avenue at divergence from Coal Creek Main Channel | None | +5,180
Coal Creek West Overflow | Approximately 0.34 miles above confluence with Arkansas River | None | +5,153 | City of Florence, (Fremont County Unincorporated Area).
| Divergence from Coal Creek Main Channel | None | +5,188
Forked Gulch | At confluence with Arkansas River | *5,333 | +5,336 | City of Canon City.
| Confluence with West Forked Gulch | *5,448 | +5,451
Minnequa Canal | Approximately 760 feet above Lock Avenue | *5,196 | +5,199 | City of Florence, Fremont County (Unincorporated Area).
| Confluence of Oak Creek | *5,206 | +5,209
Northeast Canon Drainage East Branch | At Confluence with Arkansas River | None | +5,301 | City of Canon City, Fremont County (Unincorporated Area).
| Approximately 0.85 miles upstream of Tennessee Avenue | None | +5,548
Northeast Canon Drainage West Branch | Confluence with East Branch | *5,316 | +5,320 | City of Canon City, Fremont County (Unincorporated Area).
| Approximately 0.62 miles upstream of Washington Street | *5,499 | +5,501
Oak Creek | Approximately 325 feet above confluence with Arkansas River | None | +5,156 | City of Florence, Fremont County (Unincorporated Area), Town of Williamsburg, City of Canon City.
| Approximately 550 feet upstream of Quincy Street | None | +5,341
Oak Creek Right Over Bank | Approximately 600 feet downstream of West Seventh Street | *5,151 | +5,154 | City of Florence.
| Approximately 150 feet upstream of Second Street | *5,188 | +5,190
Sand Creek | At confluence with Arkansas River | *5,352 | +5,356 | City of Canon City.
| Approximately 0.92 miles upstream of confluence with Arkansas River | *5,428 | +5,431
Southeast Canon Drainage | At confluence with Arkansas River | *5,308 | +5,312 | City of Canon City.
| Approximately 0.60 miles upstream of confluence with Arkansas River | *5,364 | +5,368
West Forked Gulch | Confluence with Forked Gulch | *5,448 | +5,452 | City of Canon City.
| Approximately 500 Feet upstream of confluence with Forked Gulch | *5,471 | +5,474
West Forked Gulch | Approximately 0.59 miles upstream of the confluence with Forked Gulch | *5,526 | +5,529 | City of Canon City.
| Approximately 0.973 miles upstream of confluence with Forked Gulch | *5,570 | +5,573
ADDRESSES
Unincorporated Areas of Fremont County
Maps are available for inspection at: The Administration Building, 615 Macon Avenue, Room 105, Canon City, Colorado.
Send comments to: Mr. Larry Lasha, Chairman, Fremont County Commissioners, 615 Macon Avenue, Room 105, Canon City, Colorado 81212.
City of Canon City
Maps are available for inspection at: City Hall, 128 Main Street, Canon City, Colorado.
Send comments to: The Honorable William F. Jackson, Mayor, City of Canon City, 128 Main Street, Canon City, Colorado 81215.
City of Florence
Maps are available for inspection at: The Municipal Building, 300 West Main St, Florence, Colorado.
Send comments to: Mr. Tom Piltingsrud, City Manager, City of Florence, 300 West Main St, Florence, Colorado 81226-1426.
City of Williamsburg
Maps are available for inspection at: City Hall, 1 John Street, Williamsburg, Colorado.
Send comments to: The Honorable Oscar Turley, Mayor, Town of Williamsburg, 1 John Street, Williamsburg, Colorado 81226.
Richland County, Montana and Incorporated Areas
Lone Tree Creek | Approximately 0.47 miles downstream of Country Road 351 | None | +1,908 | Richland County (Unincorporated Areas), City of Sidney.
| At 22nd Avenue Northwest | None | +1,969
Missouri River | Approximately 8.14 miles downstream of confluence with Big Muddy Creek | None | +1,910 | Richland County (Unincorporated Areas).
| Approximately 11 miles upstream of confluence with Wolf Creek | None | +1,995
ADDRESSES
Richland County, Montana
Maps available for inspection at: The County Courthouse, 201 West Main, Sidney, Montana.
Send Comments to: Mr. Don Steppler, Chairman, Richland County Commissioners, 201 West Main Street, Sidney, Montana 59270.
City of Sidney
Maps are available for inspection at: City Hall, 115 2nd Street SE, Sidney Montana.
Send comments to: The Honorable Bret Smelser, Mayor, Town of Sidney, 115 2nd Street SE, Sidney, Montana 59270.
Wayne County, Nebraska and Incorporated Areas
Deer Creek | At confluence with South Logan Creek | *1453 | +1450 | City of Wayne
| At 574th Avenue | None | +1460
Dog Creek | Approximately 2000 feet upstream of confluence with South Logan Creek | *1424 | +1420 | City of Wayne.
| At 858th Road | *1440 | +1439
South Logan Creek | Approximately 350 feet downstream of confluence with Dog Creek | *1421 | +1416 | City of Wayne.
| Approximately 75 feet upstream of Highway 15 | *1451 | +1444
| Approximately 200 feet upstream of 854th Road | None | +1465
ADDRESSES
City of Wayne
Maps are available for inspection at the City Office, 306 Pearl Street, Wayne, NE 68787.
Send comments to The Honorable Lois Shelton, Mayor, City of Wayne, 306 Pearl Street, Wayne, NE 68787.
Wilson County, Tennessee and Incorporated Areas
Anthony Branch | Confluence with North Fork Suggs Creek | None | +536 | Wilson County (Unincorporated Areas).
| Approximately 1.3 miles upstream of Logue Road | None | +579
Bartons Creek | Just downstream of Interstate 40 | None | +556 | Wilson County (Unincorporated Areas), City of Lebanon.
| Approximately 1030 feet upstream of Franklin Road | None | +570
Bartons Creek Tributary 3 | Just upstream of Alhambra Drive | None | +508 | Wilson County (Unincorporated Areas), City of Lebanon.
| Approximately 1.0 mile upstream of Blair Lane | None | +674
Beech Log Creek | Confluence with Round Lick Creek | None | +655 | Wilson County (Unincorporated Areas), City of Watertown.
| Approximately 1.9 miles upstream of Sparta Pike | None | +754
Black Branch | Approximately 1490 feet upstream of confluence with Spring Creek | *577 | +578 | Wilson County (Unincorporated Areas), City of Lebanon.
| Approximately 3150 feet upstream of Sparta Pike | None | +616
Cave Creek | Confluence with Hurricane Creek | None | +597 | Wilson County (Unincorporated Areas).
| Approximately 3780 feet upstream of Hurricane Creek Road | None | +610
Cedar Creek | Approximately 1100 feet downstream of Beasleys Bend | *460 | +461 | Wilson County (Unincorporated Areas).
| Approximately 2050 feet upstream of Carthage Highway | None | +555
Fall Creek | Approximately 180 feet downstream of Old Murfreesboro Road | None | +554 | Wilson County (Unincorporated Areas).
| Approximately 1.3 miles upstream of Puckett Road | None | +731
Hurricane Creek | Approximately 3590 feet downstream of Mt Creary Road | None | +510 | Wilson County (Unincorporated Areas).
| Approximately 360 feet upstream of E Richmond Shop Road | None | +628
Jennings Fork Creek | Approximately 200 feet downstream of Flat Rock Road | None | +513 | Wilson County (Unincorporated Areas).
| Approximately 1 mile upstream of Blue Bird Road | None | +632
Martha Branch | Approximately 220 feet upstream of confluence with Spencer Creek | None | +509 | Wilson County (Unincorporated Areas), City of Lebanon.
| Approximately 560 feet upstream of Martha-Leeville Road | None | +557
North Fork Suggs Creek | Approximately 810 feet upstream of confluence with Suggs Creek | None | +536 | Wilson County (Unincorporated Areas).
| Approximately 1.3 miles upstream of Logue Road | None | +579
North Fork Suggs Creek Tributary 1 | Confluence with North Fork Suggs Creek | None | +545 | Wilson County (Unincorporated Areas).
| Approximately 1.4 miles upstream of North Fork Suggs Creek | None | +617
Rocky Branch | Confluence with Smith Fork | None | +723 | Wilson County (Unincorporated Areas).
| Approximately 1.3 miles upstream of Clever Creek Road | None | +756
Round Lick Creek | Approximately 2130 feet downstream of Interstate 40 | None | +557 | Wilson County (Unincorporated Areas).
| Approximately 1900 upstream of Statesville Road | None | +668
Shop Springs Branch | Approximately 2900 feet upstream of confluence with Spring Creek | *600 | +601 | Wilson County (Unincorporated Areas).
| Approximately 3170 feet upstream of Young Road | None | +660
Shop Springs Branch Tributary 1 | Confluence with Shop Springs Branch | None | +613 | Wilson County (Unincorporated Areas).
| Approximately 70 feet upstream of Shop Springs Road | None | +653 |
Sinking Creek Tributary 1 | Approximately 430 feet downstream of Hill Street | None | +527 | City of Lebanon.
| Approximately 115 feet upstream of Leeville Pike | None | +557
Sinking Creek Tributary 3 | Approximately 450 feet upstream of confluence with Sinking Creek | None | +594 | Wilson County (Unincorporated Areas).
| Approximately 770 feet upstream of confluence with Sinking Creek | None | +594
Sinking Creek Tributary 3.2 | Confluence with Sinking Creek Tributary 3 | None | +594 | Wilson County (Unincorporated Areas).
| Approximately 60 feet upstream Murfreesboro Road | None | +631
Smith Fork | Approximately 5190 feet downstream of State Highway 96 | None | +627 | Wilson County (Unincorporated Areas).
| Approximately 5030 feet upstream of Greenvale Road | None | +741
Snarl Creek | Approximately 1.7 miles downstream Central Pike | None | +503 | Wilson County (Unincorporated Areas), City of Mt. Juliet.
| Approximately 2400 feet upstream of South Mt. Juliet Road | None | +607
South Fork Cedar Creek | Just downstream of Interstate 40 | None | +577 | City of Lebanon.
| Approximately 180 feet upstream of State Highway 109 | None | +602
Spring Creek Tributary 4 | Approximately 500 feet upstream of confluence with Spring Creek | None | +572 | Wilson County (Unincorporated Areas).
| Approximately 100 feet upstream of Locust Grove Road | None | +643
Spring Creek Tributary 5 | Approximately 450 feet upstream of confluence with Spring Creek | None | +589 | Wilson County (Unincorporated Areas).
| Approximately 3560 feet upstream of confluence with Spring Creek | None | +620
Spring Creek Tributary 6 | Approximately 900 feet upstream of confluence with Spring Creek | *600 | +601 | Wilson County (Unincorporated Areas).
| Approximately 1620 feet upstream of confluence with Spring Creek | None | +604
Suggs Creek | Just upstream of Underwood Road | None | +565 | Wilson County (Unincorporated Areas).
| Approximately 2650 feet upstream of Stewarts Ferry Road | None | +619
Suggs Creek Tributary 1 | Confluence with Suggs Creek | None | +568 | Wilson County (Unincorporated Areas).
| Approximately 1.5 miles upstream of Stewarts Ferry Pike | None | +624
Walker Branch | Approximately 370 feet downstream of Coles Ferry Pike | *492 | +493 | Wilson County (Unincorporated Areas), City of Lebanon.
| Approximately 3340 feet upstream of Hunters Point Pike | None | +546
ADDRESSES
City of Lebanon
Maps are available for inspection at 200 Castle Heights Avenue, Lebanon, TN 37087.
Send comments to the Honorable Don Fox, Mayor, City of Lebanon, 200 Castle Heights Avenue, Lebanon, TN 37087.
City of Mt. Juliet
Maps are available for inspection at 2425 North Mt. Juliet Road, Mt. Juliet, TN 37122.
Send comments to the Honorable Linda Elam, Mayor, City of Mt. Juliet, 2425 North Mt. Juliet Road, Mt. Juliet, TN 37122.
City of Watertown
Maps are available for inspection at 228 East Main Street, Courthouse Room 5, Lebanon, TN 37087
Send comments to the Honorable Michael Jennings, Mayor, City of Watertown, 8630 Sparta Pike, Watertown, TN 37184.
Unincorporated Areas of Wilson County
Maps are available for inspection at 228 East Main Street, Courthouse Room 5, Lebanon, TN 37087.
Send comments to the Honorable Robert Dedman, Mayor, Wilson County, 228 East Main Street, Courthouse Room 5, Lebanon, TN 37087.
Travis County, Texas and Incorporated Areas
Blunn Creek | Confluence with Colorado River | *442 | +440 | City of Austin.
| Approximately 1570 feet upstream from the intersection with Alpine Drive | None | +648
Boggy Creek North | Confluence with Colorado River | *431 | +432 | City of Austin.
| Intersection with Airport Blvd | *597 | +590
Boggy Creek Tributary 1 | Confluence with Boggy Creek North | *442 | +446 | City of Austin.
| Intersection with Airport Blvd | *452 | +458
Carson Creek | Confluence with Colorado River | *432 | +423 | City of Austin, Travis County (Unincorporated Areas).
| Approximately 4100 feet upstream from the intersection with Metro Center Drive | *560 | +570
Carson Creek Tributary 2 | Confluence with Carson Creek | None | +440 | City of Austin.
| Approximately 1500 feet upstream from the intersection with State Hwy 71 | None | +458
Carson Creek Tributary 3 | Confluence with Carson Creek | None | +432 | City of Austin.
| Intersection with Thornberry Road | None | +478
Carson Creek Tributary 4 | Confluence with Carson Creek | None | +432 | City of Austin.
| Approximately 1000 feet downstream from the intersection with Dalton Lane | None | +440
Clarkson Branch | Confluence with Boggy Creek North | None | +548 | City of Austin.
| Intersection with 38th 1/2 Street | None | +576
Colorado River | Confluence with unnamed tributary | *394 | +391 | City of Austin, City of Jonestown, City of Lago Vista, City of Lakeway, City of Rollingwood, City of Round Rock, City of Webberville, City of West Lake Hills, Travis County (Unincorporated Areas), Village of Briarcliff, Village of Point Venture.
| Downstream face of Mansfield Dam | *716 | +722
Country Club Creek East (Old Country Club Creek) | Confluence with Colorado River | *436 | +437 | City of Austin.
| Approximately 3100 feet upstream from the intersection with Riverside Drive | *567 | +565
Country Club Creek East Tributary 1 | Confluence with Country Club Creek East | None | +449 | City of Austin.
| Intersection with Fairway Street | None | +493
Country Club Creek East Tributary 2 (Old Country Club Creek) | Confluence with Country Club Creek East | *449 | +453 | City of Austin.
| Approximately 220 feet downstream from the intersection with Crossing Place | *458 | +457
Country Club Creek East Tributary 3 | Confluence with Country Club Creek East | None | +466 | City of Austin.
| Approximately 380 feet upstream from the intersection with Riverside Drive | None | +502
Country Club Creek East Tributary 4 | Confluence with Country Club Creek East | *496 | +497 | City of Austin.
| Approximately 430 feet downstream from the intersection with Grove Blvd | None | +536
Country Club Creek West (New Country Club Creek) | Confluence with Colorado River | *437 | +438 | City of Austin.
| Approximately 2340 feet upstream from the intersection with Metcalfe Road | *610 | +612
Country Club Creek West Tributary 1 | Confluence with Country Club Creek West | *464 | +465 | City of Austin.
| Approximately 750 feet upstream from the intersection with Riverside Drive | *541 | +542
Country Club Creek West Tributary 2 | Confluence with Country Club Creek West | *482 | +485 | City of Austin.
| Approximately 1290 feet upstream from the intersection with Oltorf Street | None | +599
Country Club Creek West Tributary 3 | Confluence with Country Club Creek West | *503 | +501 | City of Austin.
| Intersection with State Hwy 71/Ben White Blvd | *602 | +612
Country Club Creek West Tributary 3A | Confluence with Country Club Creek West Tributary 3 | None | +550 | City of Austin.
| Approximately 1460 feet upstream from the confluence with Country Club Creek West Tributary 3 | None | +610
Country Club Creek West Tributary 4 | Confluence with Country Club Creek West | *526 | +523 | City of Austin.
| Intersection with Burleson Road | *570 | +575
Country Club Creek West Tributary 5 | Confluence with Country Club Creek West | None | +553 | City of Austin.
| Approximately 680 feet upstream from the intersection with Granada Drive | None | +608
Danz Creek | Confluence with Slaughter Creek | None | +746 | City of Austin.
| Intersection with FM 1826 | None | +989
Danz Creek Split | Confluence with Danz Creek | None | +783 | City of Austin.
| Divergence from Danz Creek | None | +844
Danz Creek Tributary 1 | Confluence with Danz Creek | None | +766 | City of Austin.
| Approximately 1 mile upstream from the confluence with Danz Creek | None | +787
Danz Creek Tributary 2 | Confluence with Danz Creek | None | +860 | City of Austin.
| Approximately 1 mile upstream from the confluence with Danz Creek | None | +894
Dry Creek North | Confluence with Colorado River | None | +494 | City of Austin.
| Approximately 1050 feet upstream from the intersection with Laurel Valley Drive | None | +761
Dry Creek North Tributary 1 | Confluence with Dry Creek North | None | +556 | City of Austin.
| Approximately 940 feet upstream from the intersection with FM 2222 | None | +613
Dry Creek North Tributary 2 | Confluence with Dry Creek North | None | +573 | City of Austin.
| Intersection with Berry Hill Drive | None | +623
Dry Creek North Tributary 3 | Confluence with Dry Creek North | None | +582 | City of Austin.
| Approximately 870 feet upstream from the confluence with Dry Creek North | None | +602
Dry Creek North Tributary 4 | Confluence with Dry Creek North | None | +602 | City of Austin.
| Approximately 640 feet upstream from the intersection with Dry Creek Drive | None | +641
East Bouldin Creek | Confluence with Colorado River | *443 | +440 | City of Austin.
| Intersection with Ben White Blvd | *650 | +655
East Branch of Fort Branch Creek Tributary 1 | Confluence with Fort Branch Creek Tributary 1 | None | +557 | City of Austin.
| Approximately 400 feet upstream from the intersection with Rogge Lane | None | +575
Fort Branch Creek | Confluence with Boggy Creek North | *442 | +440 | City of Austin.
| Approximately 160 feet upstream from the intersection with Glencrest Drive | None | +640
Fort Branch Creek Tributary 1 | Confluence with Fort Branch | None | +532 | City of Austin.
| Approximately 400 feet upstream from the intersection with Rogge Lane | None | +591
Fort Branch Creek Tributary 2 | Confluence with Fort Branch | None | +584 | City of Austin.
| Approximately 900 feet upstream from the intersection with Gaston Place | None | +605
Grayson Branch | Confluence with Boggy Creek North | None | +547 | City of Austin.
| Intersection with 39th Street | None | +557
Harris Branch | Approximately 3000 feet upstream of the confluence with Gilleland Creek | *539 | +537 | City of Austin, Travis County (Unincorporated Areas).
| Approximately 300 feet upstream from the intersection with Park Crossing | *741 | +743
Harris Branch Tributary 4 | Confluence with Harris Branch | *603 | +602 | City of Austin, Travis County (Unincorporated Areas).
| Intersection with Harris Ridge Blvd | None | +723
Harris Branch Tributary 6 | Confluence with Harris Branch | None | +597 | City of Austin, Travis County (Unincorporated Areas).
| Approximately 1 mile upstream from the confluence with Harris Branch | None | +628
Kincheon Creek | Confluence with Williamson Creek | None | +679 | City of Austin.
| Approximately 750 feet upstream from the intersection with Abilene Trail | None | +838
Little Walnut Creek | Confluence with Walnut Creek | *471 | +470 | City of Austin.
| Intersection with Metric Blvd | None | +731
Little Walnut Creek Tributary 1 | Confluence with Little Walnut Creek | *538 | +537 | City of Austin.
| Intersection with Chevy Chase Drive | None | +684
Little Walnut Creek Tributary 3 | Confluence with Little Walnut Creek | *670 | +669 | City of Austin.
| Approximately 740 feet upstream from the intersection with Northgate Blvd | *713 | +716
Montopolis Tributary | Confluence with Carson Creek | None | +450 | City of Austin.
| Approximately 1 mile upstream from the intersection with Dalton Lane | None | +472
North Fork West Bouldin Creek | Confluence with West Bouldin Creek | *566 | +564 | City of Austin.
| Approximately 300 feet upstream from the instersection with Manchaca Road | None | +641
Onion Creek | Confluence with the Colorado River | *414 | +408 | City of Austin, Travis County (Unincorporated Areas).
| Approximately 5,500 feet upstream from the confluence of Garlic Creek and Onion Creek (Travis and Hays County Line) | *644 | +646
Pleasant Hill Tributary | Confluence with Williamson Creek | None | +575 | City of Austin.
| Intersection with South Congress Road | None | +654
Poquito Branch | Confluence with Boggy Creek North | None | +489 | City of Austin.
| Intersection with Poquito Street | None | +494
Possum Trot Branch | Intersection of 11th Street and Possum Trot Branch | *481 | +480 | City of Austin.
| Approximately 350 feet upstream from the intersection with Woodmont Avenue | None | +560
Shoal Creek | Confluence with the Colorado River (Town Lake) | *445 | +440 | City of Austin.
| Approximately 1,650 feet upstream from the intersection with the Union Pacific Railroad | *758 | +776
Slaughter Creek | Intersection of the Union Pacific Railroad and Slaughter Creek | *654 | +664 | City of Austin, City of San Leanna, Travis County (Unincorporated Areas).
| Approximately 730 feet upstream from the intersection with Hwy 290 | None | +1074
Slaughter Creek Tributary 1 | Approximately 800 feet upstream from the confluence with Slaughter Creek | *591 | +592 | City of Austin.
| Approximately 1000 feet upstream from the intersection with Manchaca Road | *688 | +689
Slaughter Creek Tributary 2 | Confluence with Slaughter Creek | None | +673 | City of Austin.
| Intersection with Brodie Lane | None | +752
Slaughter Creek Tributary 3 | Confluence with Slaughter Creek | None | +743 | Travis County (Unincorporated Areas).
| Approximately 1050 feet upstream from the intersection with Lost Oasis Hollow | None | +781
Slaughter Creek Tributary 4 | Confluence with Slaughter Creek | None | +776 | City of Austin.
| Approximately 100 feet downstream from the intersection with Mo-Pac Expressway | None | +815
Slaughter Creek Tributary 5 | Confluence with Slaughter Creek | None | +847 | City of Austin.
| Approximately 2550 feet upstream from the intersection with LaCrosse Avenue | None | +897
South Boggy Creek | Intersection of Bluff Springs Road and South Boggy Creek | *558 | +559 | City of Austin, Travis County (Unincorporated Areas).
| Approximately 650 feet upstream from the intersection with Westgate Blvd | *779 | +771
Sunset Valley Tributary | Approximately 600 feet downstream from the intersection with Jones Road | *653 | +652 | City of Austin, City of Sunset Valley.
| Approximately 2050 feet upstream from the intersection with Monterey Oaks Drive | None | +760
Tar Branch | Confluence with Walnut Creek | None | +630 | City of Austin.
| Approximately 1200 feet upstream from the intersection with Metric Blvd | None | +718
Walnut Creek | Confluence with Colorado River | *430 | +431 | City of Austin, Travis County (Unincorporated Areas).
| Approximately 50 feet downstream from the intersection with McNeil Drive | None | +893
Walnut Creek Tributary 1 | Confluence with Walnut Creek | *431 | +432 | City of Austin.
| Approximately 2200 feet upstream from the intersection with Loyola Avenue | None | +506
Walnut Creek Tributary 10 | Approximately 1200 feet upstream from the confluence with Walnut Creek | *763 | +764 | City of Austin, Travis County (Unincorporated Areas).
| Intersection with Howard Lane | None | +809
Walnut Creek Tributary 2 | Intersection with railroad bed | *443 | +445 | City of Austin.
| Interesection with Martin Luther King Blvd | *485 | +482
Walnut Creek Tributary 3 | Approximately 1200 feet upstream from the confluence with Walnut Creek | *493 | +494 | City of Austin, Travis County (Unincorporated Areas).
| Intersection with Cameron Road | *575 | +576
Walnut Creek Tributary 4 | Confluence with Walnut Creek | *500 | +498 | City of Austin.
| Approximately 80 feet upstream from the intersection with Springdale Road | *545 | +543
Walnut Creek Tributary 5 | Confluence with Walnut Creek | *512 | +514 | City of Austin.
| Approximately 2200 feet upstream from the intersection with Sansom Road | *555 | +556
Walnut Creek Tributary 6 | Confluence with Walnut Creek | *610 | +611 | City of Austin.
| Approximately 1030 feet upstream from the intersection with Canyon Ridge Drive | None | +707
Walnut Creek Tributary 7 | Confluence with Walnut Creek | *692 | +694 | City of Austin.
| Intersection with Research Blvd | None | +844
Walnut Creek Tributary 7A | Approximately 650 feet upstream from the confluence with Walnut Creek Tributary 7 | *754 | +757 | City of Austin.
| Approximately 3500 feet upstream from the intersection with the railroad | None | +821
Walnut Creek Tributary 8 | Confluence with Walnut Creek | *700 | +701 | City of Austin.
| Intersection with Railroad | *805 | +796
Walnut Creek Tributary 9 | Confluence with Walnut Creek | *710 | +709 | City of Austin.
| Approximately 730 feet upstream from the intersection with Howard Lane | None | +786
Wells Branch | Confluence with Walnut Creek | *627 | +629 | City of Austin.
| Approximately 710 feet upstream from the intersection with Wells Branch Pkwy | *775 | +772
West Bouldin Creek | Confluence with Colorado River | *445 | +442 | City of Austin.
| Approximately 240 feet upstream from the intersection with Clawson | None | +641
Williamson Creek | Confluence with Onion Creek | *525 | +522 | City of Austin, City of Sunset Valley.
| Approximately 200 feet upstream from the intersection with Mowinkle Drive | None | +968
Williamson Creek Tributary 1 | Confluence with Williamson Creek | *526 | +522 | City of Austin.
| Approximately 50 feet upstream from the intersection with Nuckols Crossing Road | *571 | +562
Williamson Creek Tributary 2 | Confluence with Williamson Creek | *526 | +523 | City of Austin.
| Approximately 250 feet upstream from the intersection with Nuckols Crossing | None | +592
Williamson Creek Tributary 3 | Intersection of Nuckols Crossing and Williamson Creek Tributary 3 | *544 | +541 | City of Austin.
| Approximately 670 feet upstream from the intersection with Pino Street | *568 | +567
Williamson Creek Tributary 4 | Confluence with Williamson Creek | *589 | +596 | City of Austin.
| Approximately 210 feet upstream from the intersection with South First Street | None | +643
Williamson Creek Tributary 5 | Confluence with Williamson Creek | *847 | +848 | City of Austin.
| Approximately 500 feet upstream from the intersection with South Brook Drive | *913 | +920
Williamson Creek Tributary 6 | Approximately 5000 feet upstream from the intersection with William Cannon Drive | None | +864 | City of Austin.
| Approximately 5900 feet upstream from the intersection with William Cannon Drive | None | +899
ADDRESSES
City of Austin
Maps are available for inspection at 505 Barton Springs Road, 12th Floor, Austin, TX 78704.
Send comments to the Honorable Will Mynn, Mayor, City of Austin, P.O. Box 1088, Austin, TX 78767.
City of Jonestown
Maps are available for inspection at 18649 FM 1431, Suite 4-A, Jonestown, TX 78645.
Send comments to the Honorable James Brown, Mayor, City of Jonestown, 18649 FM 1431, Jonestown, TX 78645.
City of Lago Vista
Maps are available for inspection at 5803 Thunderbird, Lago Vista, TX 78645.
Send comments to the Honorable Dennis Jones, Mayor, City of Lago Vista, P.O. Box 4727, Lago Vista, TX 78645.
City of Lakeway
Maps are available for inspection at 1102 Lohmans Crossing, Lakeway, TX 78734.
Send comments to the Honorable Steve Swan, Mayor, City of Lakeway, 1102 Lohmans Crossing, Lakeway, TX 78734.
City of Rollingwood
Maps are available for inspection at 403 Nixon Drive, Austin, TX 78746.
Send comments to the Honorable Hollis Jeffries, Mayor, City of Rollingwood, 403 Nixon Drive, Austin, TX 78746.
City of Round Rock
Maps are available for inspection at 2008 Enterprise, Round Rock, TX 78664.
Send comments to the Honorable Nyle Maxwell, Mayor, City of Round Rock, 221 East Main Street, Round Rock, TX 78664.
City of San Leanna
Maps are available for inspection at 11906 Sleepy Hollow, Manchaca, TX 78652.
Send comments to the Honorable James Payne, Mayor, City of San Leanna, P.O. Box 1107, Manchaca, TX 78652.
City of Sunset Valley
Maps are available for inspection at 3205 Jones Road, Sunset Valley, TX 78745.
Send comments to the Honorable Terry Cowan, Mayor, City of Sunset Valley, 3205 Jones Road, Sunset Valley, TX 78745.
City of Webberville
Maps are available for inspection at Webberville City Hall, 1701 Webberwood, Elgin, TX 78621.
Send comments to the Honorable Hector Gonzales, Mayor, City of Webberville, P.O. Box 367, Webberville, TX 78653.
City of West Lake Hills
Maps are available for inspection at 911 Westlake Drive, West Lake Hills, TX 78746.
Send comments to the Honorable Dwight Thompson, Mayor, City of West Lake Hills, 911 Westlake Drive, West Lake Hills, TX 78746.
Unincorporated Areas of Travis County
Maps are available for inspection at 411 13th Street, 8th Floor, Austin, TX 78767.
Send comments to the Honorable Samual Biscoe, Judge, Travis County, 511W. 13th Street, Austin, TX 78767.
Village of Briarcliff
Maps are available for inspection at 402 Sleat Drive, Briarcliff, TX 78669.
Send comments to the Honorable James Hamnett, Mayor, Village of Briarcliff, 402 Sleat Drive, Briarcliff, TX 78669.
Village of Point Venture
Maps are available for inspection at 549 Venture Blvd South, Point Venture, TX 78645.
Send comments to the Honorable Kevin Sheffer, Mayor, Village of Point Venture, 549 Venture Blvd South, Point Venture, TX 78645.
Village of Volente
Maps are available for inspection at 15403 Hill Street, Volente, TX 78641.
Send comments to the Honorable Jen Yenawine, Mayor, Village of Volente, 15403 Hill Street, Volente, TX 78641.
Davis County, Utah and Incorporated Areas
Great Salt Lake | Approximately 1000 feet West of intersection of N 800 W and W Jim Bridger | None | +4217 | City of Centerville.
| At intersection of 900 W and Parish Lane | None | +4218
Great Salt Lake | Approximately 400 feet Northwest of intersection of N Ranch and W Prairie View | None | +4218 | City of Farmington.
| Approximately 1400 feet West of intersection of N Ranch and W Prairie View | None | +4219
Great Salt Lake | Approximately 1800 feet South-Southeast of intersection of S View Crest and W Thomas | None | +4218 | City of Kaysville.
Great Salt Lake | Approximately 400 feet West of intersection of N 5000 W and W 300 North | None | +4217 | City of West Point.
Great Salt Lake | Approximately 0.9 miles West of intersection of W 2425 S and N Redwood | None | +4218 | City of Woods Cross.
Great Salt Lake | Approximately 1600 feet West of intersection of W York and N Skipton | None | +4218 | City of North Salt Lake City.
Great Salt Lake | Approximately 1500 feet West of intersection of County Road 127 and County Road 110 | None | +4217 | Davis County (Unincorporated Areas).
| Approximately 0.6 miles Northwest of intersection of W Porter and N 1100 W | None | +4219
Great Salt Lake | Approximately 200 feet West of Intersection of N Willowbrook and N 880 W | None | +4218 | City of West Bountiful.
Jordan River | Approximately 1600 feet South of intersection of W Interchange and S Enterprise | None | +4217 | City of North Salt Lake City.
| Approximately 600 feet west of intersection of W Interchange and S Enterprise | None | +4218
ADDRESSES
City of Centerville
Maps are available for inspection at 655 North 1250 West, Centerville, UT 84014.
Send comments to the Honorable Michael Deamer, Mayor, City of Centerville, 732 South 650 East, Centerville, UT 84014.
City of Farmington
Maps are available for inspection at 130 North Main, Farmington, UT 84025.
Send comments to the Honorable Gregory Bell, Mayor, City of Farmington, P.O. Box 160, Farmington, UT 84025.
City of Kaysville
Maps are available for inspection at 23 East Center Street, Kaysville, UT 84037.
Send comments to the Honorable Brian Cook, Mayor, City of Kaysville, 23 East Center Street, Kaysville, UT 84037.
City of North Salt Lake City
Maps are available for inspection at 20 South Highway 89, North Salt Lake City, UT 84054.
Send comments to the Honorable Duke Dixon, Mayor, City of North Salt Lake, P.O. Box 540208, North Salt Lake City, UT 84054.
City of West Bountiful
Maps are available for inspection at 550 North 800 West, West Bountiful, UT 84087.
Send comments to the Honorable Carl Martin, Mayor, City of West Bountiful, 550 North 800 West, West Bountiful, UT 84087.
City of West Point
Maps are available for inspection at 3200 West 300 North, West Point, UT 84015.
Send comments to the Honorable John Petroff Jr. Mayor, City of West Point, 3200 West 300 North, West Point, UT 84015.
City of Woods Cross
Maps are available for inspection at 1555 South 800 West, Woods Cross, UT 84087.
Send comments to the Honorable Jerry Larrabee, Mayor, City of Woods Cross, 1555 South 800 West, Woods Cross, UT 84087.
Unincorporated Areas of Davis County
Maps are available for inspection at 28 East State Street, Farmington, UT 84025.
Send comments to the Honorable Dannie McConkie, Chairman, Davis County, Davis County Memorial Courthouse, Farmington, UT 84025.
# Depth in feet above ground.
+North American Vertical Datum.
* National Geodetic Vertical Datum.

(Catalog of Federal Domestic Assistance No. 83.100, “Flood Insurance.”)

Dated: July 24, 2006.
David I. Maurstad,
Director, Mitigation Division, Federal Emergency Management Agency, Department of Homeland Security.

[FR Doc. E6-12909 Filed 8-8-06; 8:45 am]

BILLING CODE 9110-12-P